DEPARTMENT OF ENERGY

Federal Energy Regulatory Commission

[Project No. 2305-036]

Sabine River Authority of Texas and Sabine River Authority, State of Louisiana; Notice of Application Accepted for Filing, Soliciting Motions To Intervene and Protests, Ready for Environmental Analysis, Soliciting Comments, Recommendations, Preliminary Terms and Conditions, and Preliminary Fishway Prescriptions and Notice of Offer of Settlement

Take notice that the following hydroelectric application and offer of settlement has been filed with the Commission and is available for public inspection.

a. Type of Application: Major License and Offer of Settlement.

b. Project No.: 2305-036.

c. Date filed: September 30, 2011 (application); August 1, 2012 (offer of settlement).

d. Applicant: Sabine River Authority of Texas and Sabine River Authority, State of Louisiana (Sabine River Authorities).

e. Name of Project: Toledo Bend Hydroelectric Project.

f. Location: The existing project is located on the Sabine River between river mile (RM) 147 and RM 279, affecting lands and waters in Panola, Shelby, Sabine, and Newton Counties, Texas, and De Soto, Sabine, and Vernon Parishes, Louisiana. The project occupies lands within the Sabine National Forest in Texas and the Indian Mounds Wilderness Area, administered by the U.S. Department of Agriculture—Forest Service.

g. Filed Pursuant to: Federal Power Act, 16 U.S.C. 791 (a)-825(r) (application); Rule 602 of the Commission's Rules of Practice and Procedure, 18 CFR 385.602 (offer of settlement)

h. Applicant Contact:

Mr. Melvin T. Swoboda, Licensing Manager, Toledo Bend Project Joint Operation, P.O. Box 579, Orange, Texas 77631-0579, 409-746-2192; mswoboda@sratx.org.

Mr. Jerry L. Clark, General Manager, Sabine River Authority of Texas, P.O. Box 579, Orange, Texas 77631-0579, 409-746-2192; jclark@sratx.org.

Mr. James Pratt, Executive Director, Sabine River Authority, State of Louisiana, 15091 Texas Highway, Many, Louisiana 71449-5718, 318-256-4112; jimpratt@dotd.louisiana.gov.

Mr. Charles R. Sensiba, Van Ness Feldman, P.C., 1050 Thomas Jefferson Street NW., Washington, DC 20007, 202-298-1800.

i. FERC Contact: Alan Mitchnick, telephone (202) 502-60745, and email alan.mitchnick@ferc.gov.

j. Deadline for filing motions to intervene and protests, comments on the application and offer of settlement, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Toledo Bend Hydroelectric Project consists of: (1) A rolled earth-fill embankment, approximately 11,250 feet long with a top width of 25 feet and maximum height of approximately 112 feet; (2) an 185,000-surface acre, 85-mile-long reservoir, with an active storage capacity of 4,477,000 acre-feet at full pool and 1,200 miles of shoreline; (3) a 838-foot-long spillway located along the north dam abutment in Louisiana, comprising a concrete, gravity-type, gated weir with a concrete chute and stilling basin and a discharge channel on the left abutment with eleven 40-foot by 28-foot tainter gates; (4) a 80-foot-wide, 55-foot-high powerhouse located in the right abutment, containing two vertical Kaplan turbines with an authorized installed capacity of 81 megawatts (MW); (5) a 220-foot-long, concrete tailrace segment leading into a 2-mile-long, excavated channel that eventually merges with the Sabine River; (6) a 138-kilovolt primary transmission line leading from the powerhouse to the project switchyard, located immediately adjacent to the tailrace; and (7) a station transformer located to the immediate south of and adjacent to the powerhouse. The Sabine River Authorities propose to construct a 1.3-MW minimum flow turbine-generator at the project spillway.

The offer of settlement involves use of Sabine National Forest lands and water quality and aquatic resources in the lower Sabine River.

m. A copy of the application and offer of settlement is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Commission issues draft EIS | April 2013
Comments on draft EIS (45-day comment period) | June 2013
Commission issues final EIS (assumes modified terms and conditions would not be necessary) | September 2013

p. Final amendments to the application must be filed with the Commission no later than 30 days from the issuance date of this notice.

q. Other Agency Authorizations: A Texas Commission on Environmental Quality (Texas CEQ) section 401 Water Quality Certification is required. As part of its processing of the license application, the Texas CEQ is reviewing the application under Section 401 of the Clean Water Act (CWA), and in accordance with Title 30, Texas Administrative Code Section 279.1-13, to determine if the project would comply with State water quality standards. Based on an understanding between the Federal Energy Regulatory Commission (FERC) and the Texas CEQ, this public notice is also issued for the purpose of advising all known interested persons that there is, pending before the Texas CEQ, a decision on the request for section 401 water quality certification for this FERC license application. Any comments concerning this certification request may be submitted to the Texas Commission on Environmental Quality, 401 Coordinator, MSC-150, P.O. Box 13087, Austin, Texas 78711-3087. The public comment period extends 30 days from the date of publication of this notice. A copy of the public notice with a description of the project is made available for review in the Texas CEQ's Austin office. The complete application may be reviewed at the address listed in paragraph h. The Texas CEQ may conduct a public meeting to consider all comments concerning water quality if requested in writing. A request for a public meeting must contain the following information: the name, mailing address, application number, or other recognizable reference to the application, a brief description of the interest of the requester, or of persons represented by the requester; and a brief description of how the certification, if granted, would adversely affect such interest.

Dated: August 23, 2012.
Kimberly D. Bose,
Secretary.

[FR Doc. 2012-21439 Filed 8-29-12; 8:45 am]

BILLING CODE 6717-01-P